DEPARTMENT OF HEALTH AND HUMAN SERVICES

Centers for Disease Control and Prevention

Notice of Award of a Sole Source Cooperative Agreement to Fund Secretaria Ejecutiva del Consejo de Ministros de Salud de Centroamerica y Republica Dominicana (SE-COMISCA)

AGENCY: Centers for Disease Control and Prevention (CDC), Department of Health and Human Services (HHS).

ACTION: Notice.

SUMMARY: The Centers for Disease Control and Prevention (CDC), located within the Department of Health and Human Services (HHS), announces the award of approximately $5,000,000, with an expected total funding of approximately $25,000,000 over a 5-year period, to SE-COMISCA. The award will build upon previous efforts by the CDC in collaboration with Ministries of Health of Central America and the Dominican Republic (SE-COMISCA).

DATES: The period for this award will be September 30, 2025 through September 29, 2030.

FOR FURTHER INFORMATION CONTACT: Broderick Yoerg, Division of Global Health Protection, Global Health Center, Centers for Disease Control and Prevention, 1600 Clifton Rd., Atlanta, GA 30329, email: DGHPNOFOs@cdc.gov, telephone: 404-234-0666.

SUPPLEMENTARY INFORMATION: The sole source award will target increased capacity at the national and subnational level to implement and achieve outbreak/epidemic/pandemic control in line with US Government (USG) and CDC strategy. This collaborative effort has led to significant progress in various areas under the Global Health Strategic Framework, including One Health workshops in multiple countries to prioritize zoonotic diseases and the development of a joint action plan for Central America.

SE-COMISCA is the only entity that can carry out this work, as it will improve outbreak control capacity, better integration between health systems, and increased equity in healthcare access for all populations, especially those historically marginalized.

Summary of the Award

Recipient: SE-COMISCA

Purpose of the Award: The purpose of this award is to support Global Health Security goals in Central America and the Dominican Republic by collaborating with MOH and other partners. Efforts will focus on reaching underserved populations, prioritizing equity to build resilient health systems that protect vulnerable groups.

Amount of Award: $5,000,000 in Federal Fiscal Year (FFY) 2025 funds, with a total estimated $25,000,000 for the 5-year period of performance, subject to availability of funds.

Authority: This program is authorized under section 307 of the Public Health Service Act [42 U.S.C. 24l) and Section 301(a)[42 U.S.C. 24l(a) of the Public Health Service Act.

Period of Performance: September 30, 2025 through September 29, 2030.

Dated: December 10, 2024.
Terrance Perry,
Acting Director, Office of Grants Services, Centers for Disease Control and Prevention.

[FR Doc. 2024-30223 Filed 12-19-24; 8:45 am]

BILLING CODE 4163-18-P